DEPARTMENT OF DEFENSE

Office of the Secretary

[Transmittal No. 25-43]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-43, Policy Justification, and Sensitivity of Technology.

Dated: January 21, 2026.
Stephanie J. Bost,
Alternate OSD Federal Register Liaison Officer, Department of Defense.

BILLING CODE 6001-FR-P

BILLING CODE 6001-FR-C

Transmittal No. 25-43

Notice of Proposed Issuance of Letter of Offer Pursuant to Section 36(b)(1) of the Arms Export Control Act, as amended

(i) Prospective Purchaser: Government of Estonia

(ii) Total Estimated Value:

Major Defense Equipment * | $256 million
Other | $ 40 million
TOTAL | $296 million

Funding Source: National Funds

(iii) Description and Quantity or Quantities of Articles or Services under Consideration for Purchase: Foreign Military Sales (FMS) case EN-B-UFJ was below the congressional notification threshold at $10.18 million ($3.1 million in MDE) and included twelve (12) Javelin Lightweight Command Launch Units (LwCLUs); LwCLU Basic Skills Trainers; Javelin missile simulation rounds; Battery Coolant Units; spare parts; tool kits and support equipment; equipment training; United States (U.S.) Government and contractor technical assistance and services; engineering services; and related elements of logistics and program support. The Government of Estonia has requested the case be amended to include eight hundred (800) FGM-148F Javelin missiles (including 8 fly-to-buy missiles) and an additional seventy-two (72) LwCLUs. This amendment will push the current case above the MDE notification threshold and thus notification of the entire case is required. The above notification requirements are combined as follows:

Major Defense Equipment:

Eight hundred (800) FGM-148F Javelin missiles (including 8 fly-to-buy missiles)

Eighty-four (84) Javelin Lightweight Command Launch Units (LwCLU)

Non-Major Defense Equipment:

The following non-MDE items will also be included: LwCLU Basic Skills Trainers; Javelin missile simulation rounds; Battery Coolant Units; spare parts; tool kits and support equipment; equipment training; U.S. Government and contractor technical assistance and services; engineering services; and related elements of logistics and program support.

(iv) Military Department: Army (EN-B-UFJ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 22, 2025

* as defined in Section 47(6) of the Arms Export Control Act.

POLICY JUSTIFICATION

Estonia—Javelin Missiles

The Government of Estonia has requested to buy eight hundred (800) FGM-148F Javelin missiles (including 8 fly-to-buy missiles) and an additional seventy-two (72) Javelin Lightweight Command Launch Units (LwCLUs) that will be added to a previously implemented case whose value was under the congressional notification threshold. The original Foreign Military Sales (FMS) case, valued at $10.18 million ($3.1 million in MDE), included twelve (12) LwCLUs; LwCLU Basic Skills Trainers; Javelin missile simulation rounds; Battery Coolant Units; spare parts; tool kits and support equipment; equipment training; U.S. Government and contractor technical assistance and services; engineering services; and related elements of logistics and program support. This notification is for a combined eight hundred (800) FGM-148F Javelin missiles (including 8 fly-to-buy missiles) and eighty-four (84) LwCLUs. The following non-MDE items will also be included: LwCLU Basic Skills Trainers; Javelin missile simulation rounds; Battery Coolant Units; spare parts; tool kits and support equipment; equipment training; U.S. Government and contractor technical assistance and services; engineering services; and related elements of logistics and program support. The estimated total program cost is $296 million.

This proposed sale will support the foreign policy and national security of the U.S. by improving the security of a NATO Ally that continues to be an important force for political stability and economic progress in Europe. This sale is consistent with U.S. initiatives to provide key allies in the region with modern systems that will enhance interoperability with U.S. forces and increase security.

The proposed sale will enhance Estonia's capability to meet current and future threats by providing a credible force that is capable of deterring adversaries and participating in NATO operations. The proposed sale will support its goal of improving national and territorial defense as well as interoperability with U.S. and NATO forces. Estonia will have no difficulty absorbing this equipment into its armed forces.

The proposed sale of this equipment and support will not alter the basic military balance in the region.

The principal contractors will be the Javelin Joint Venture between RTX Corporation, located in Tucson, AZ, and Lockheed Martin, located in Orlando, FL. At this time, the U.S. Government is not aware of any offset agreement proposed in connection with this potential sale. Any offset agreement will be defined in negotiations between the purchaser and the contractor.

Implementation of this proposed sale will not require the assignment of any additional U.S. Government or contractor representatives to Estonia.

There will be no adverse impact on U.S. defense readiness as a result of this proposed sale.

Transmittal No. 25-43

Notice of Proposed Issuance of Letter of Offer Pursuant to Section 36(b)(1) of the Arms Export Control Act

Annex

Item No. vii

(vii) Sensitivity of Technology:

1. The Javelin Weapon System is a medium-range, man portable, shoulder-launched, fire and forget, anti-tank system for infantry, scouts, and combat engineers. It may also be mounted on a variety of platforms including vehicles, aircraft, and watercraft. The system weighs 49.5 pounds and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and direct fire modes, an advanced tandem warhead and imaging infrared seeker, target lock-on before launch, and soft launch from enclosures or covered fighting positions. The Javelin missile also has a minimum smoke motor thus decreasing the likelihood of its detection on the battlefield.

3. The Javelin Weapon System is comprised of two major tactical components, which are a reusable Lightweight Command Launch Unit (LwCLU) and a round contained in a disposable launch tube assembly. The LwCLU incorporates an integrated day-night sight that provides a target engagement capability in adverse weather and countermeasure environments. The LwCLU may also be used in a stand-alone mode for battlefield surveillance and target detection. The LwCLU's thermal sight is a 3rd generation Forward Looking Infrared sensor. To facilitate initial loading and subsequent updating of software, all on-board missile software is uploaded via the LwCLU after mating and prior to launch.

4. The missile is autonomously guided to the target using an imaging infrared seeker and adaptive correlation tracking algorithms. This allows the gunner to take cover or reload and engage another target after firing a missile. The missile has an advanced tandem warhead and can be used in either the top attack or direct fire modes. An onboard flight computer guides the missile to the selected target.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that Estonia can provide substantially the same degree of protection for the sensitive technology being released as the U.S. Government. This sale is necessary in furtherance of the U.S. foreign policy and national security objectives outlined in the Policy Justification.

8. All defense articles and services listed in this transmittal have been authorized for release and export to the Government of Estonia.

[FR Doc. 2026-01336 Filed 1-23-26; 8:45 am]

BILLING CODE 6001-FR-P